DEPARTMENT OF ENERGY

Federal Energy Regulatory Commission

[Docket No. RP03-221-000]

High Island Offshore System, L.L.C.; Notice of Informal Settlement Conference

June 17, 2003.

Take notice that an informal settlement conference will be convened in this proceeding commencing at 9 a.m. on June 25, 2003, at the offices of the Federal Energy Regulatory Commission, 888 First Street, NE., Washington, DC 20426, for the purpose of exploring the possible settlement of the above-referenced dockets.

Any party as defined by 18 CFR 385.102(c), or any participant as defined by 18 CFR 385.102(b), is invited to attend. Persons wishing to become a party must move to intervene and receive intervenor status pursuant to the Commission's regulations (18 CFR 385.214).

For additional information, please contact Donald Heydt at (202) 502-8740, donald.heydt@ferc.gov or Irene Szopo at (202) 502-8323, irene.szopo@ferc.gov.

Linda Mitry,
Acting Secretary.

[FR Doc. 03-15844 Filed 6-23-03; 8:45 am]

BILLING CODE 6717-01-P